DEPARTMENT OF ENERGY

Federal Energy Regulatory Commission

[Docket No. RP04-165-001]

Midwestern Gas Transmission Company; Notice of Cash-Out Report

March 1, 2004.

Take notice that on February 25, 2004, Midwestern Gas Transmission Company (Midwestern) tendered for filing a revised Appendix C to its 10th annual cashout report for the September 2002 through August 2003 period, detailing the allocation of the gain for cashout activity by firm shipper.

Midwestern states that it will credit the proper allocation of the net cashout gain in its next issuance of invoices to the firm shippers.

Any person desiring to protest said filing should file a protest with the Federal Energy Regulatory Commission, 888 First Street, NE., Washington, DC 20426, in accordance with section 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: March 5, 2004.

Linda Mitry,
Acting Secretary.

[FR Doc. E4-640 Filed 3-19-04; 8:45 am]

BILLING CODE 6717-01-P